DEPARTMENT OF DEFENSE

Department of the Navy

Notice of Intent To Prepare an Environmental Impact Statement for the Disposal and Reuse of the Naval Weapons Station Seal Beach Detachment Concord, City of Concord, California, and To Announce Public Scoping Meetings

AGENCY: Department of the Navy, DoD.

ACTION: Notice.

SUMMARY: Pursuant to Section 102(2)(c) of the National Environmental Policy Act (NEPA) of 1969, as implemented by the Council on Environmental Quality (CEQ) regulations (40 CFR Parts 1500-1508), the Department of the Navy (DoN) announces its intent to prepare an Environmental Impact Statement (EIS) to evaluate the potential environmental consequences of the disposal and reuse of surplus property at the former Naval Weapons Station Seal Beach Detachment Concord (NWS Concord), Concord, Contra Costa County, California. In accordance with NEPA, before disposing of any real property, the DoN must analyze the environmental effects of the disposal of the NWS Concord property. A 30-day public scoping period is being held to receive comments on the scope of the EIS, including the range of actions, alternatives, and environmental concerns that should be addressed. Public scoping meetings will also be held in the City of Concord, California, to provide information and receive written comments on the scope of the EIS. Federal, state, and local agencies and interested individuals are invited to comment on the scope of the EIS and attend the public scoping meeting.

Dates and Addresses: Two public scoping meetings will be held on Thursday, April 4, 2013 at 4:00-6:00 p.m. and 7:00-9:00 p.m. at the Concord Senior Citizens Center (Wisteria Room), 2727 Parkside Circle, Concord, California, 94519. DoN representatives will be available to provide clarification as necessary related to the EIS. There will not be a formal presentation.

FOR FURTHER INFORMATION CONTACT: Director, NAVFAC BRAC PMO West, Attn: Mr. Ronald Bochenek, 1455 Frazee Road, Suite 900, San Diego, California 92108-4310, telephone 619-532-0906, fax 619-532-9858, email: ronald.bochenek.ctr@navy.mil.

For more information on the NWS Concord EIS visit the DoN BRAC PMO Web site (http://www.bracpmo.navy.mil).

SUPPLEMENTARY INFORMATION: In 2005, a portion of NWS Concord was designated for closure under the authority of Public Law 101-510, the Defense Base Closure and Realignment Act of 1990, as amended. At the time, the former NWS Concord comprised two major land holdings— (1) the Tidal Area, along Suisun Bay and (2) the Inland Area, within the City of Concord. In 2008, the Tidal Area and 115 acres of the Inland Area were transferred to the U.S. Army and is now the Military Ocean Terminal Concord (6,419 acres in total). In addition, approximately 59 acres of the Inland Area, which supported military housing, was transferred to the U.S. Coast Guard. The remaining 5,038 acres of the Inland Area was declared surplus to the needs of the federal government on May 6, 2007 (72 FR 9935) and its disposal and reuse is the focus of this EIS.

The purpose of the proposed action is the disposal of surplus property at NWS Concord from federal ownership and its subsequent reuse in a manner consistent with the Concord Reuse Project Area Plan, as adopted by the City of Concord on January 24, 2012. The need for the proposed action is to provide the local community the opportunity for economic development and job creation. The DoN is the action proponent for the proposed action. The U.S. Army Corps of Engineers has requested to serve as a Cooperating Agency.

To assess the potential impacts of the proposed action, the DoN will evaluate two property reuse alternatives and a No Action Alternative. Alternative 1 is the reuse of the property in a manner consistent with the Concord Reuse Project Area Plan. Alternative 2 consists of a greater amount of residential and mixed-use development. Alternative 2 includes elements of the Connected Villages Alternative (Alternative 2) assessed in the 2008 Draft Environmental Impact Report of the City of Concord's Reuse Plan conducted in compliance with the California Environmental Quality Act. The No-Action Alternative is evaluated in detail in this EIS as prescribed by CEQ regulations. Both reuse alternatives assume full build-out over a 25-year period; the period of analysis will be during construction and when full build-out has been completed.

Alternative 1 is the disposal and reuse of surplus property at the former NWS Concord in a manner consistent with the Concord Reuse Project Area Plan. Under Alternative 1, approximately 69% of the property would be maintained as conservation, parks, or recreational land uses, and 31% would be mixed-use development, including a mix of office, retail, residential, community facilities, light industrial, and research and development/educational land uses. Development on the site would involve up to a maximum of 12,272 housing units and 6,100,000 square feet of commercial space over a total development footprint of approximately 1,545 acres. The remaining portion of the property would be utilized for conservation, parks, or recreational land uses, including a 2,537 acre regional park, which would encompass the east side of the property along the ridgeline of the Los Medanos Hills. The western side of the property would be developed as a series of mixed-use development districts, with higher development densities at the north end of the property, near State Route 4 and the North Concord/Martinez Bay Area Rapid Transit (BART) station, and lower density residential villages as you move south towards Bailey Road. The development districts would be serviced by local and connector streets and two new through-streets, Los Medanos Boulevard running north/south from the BART station and Delta Road running east/west paralleling Highway 4. In addition, the transportation network will include a high-capacity bus transit service that will connect the development to BART, downtown Concord, and the surrounding neighborhoods.

Alternative 2 would include a greater amount of development throughout the site, as approximately 60% of the property would be maintained as conservation, parks, or recreational land uses, and approximately 40% would be mixed-use development, including a mix of office, retail, hotel, residential, and community/institutional land uses. Development on the site would involve up to a maximum of 13,000 housing units, and 7,900,000 square feet of commercial space over a total development footprint of approximately 2,000 acres. The transportation network will include a high-capacity bus transit service throughout the site connecting the villages to downtown Concord and existing neighborhoods. An arterial road connecting Bailey Road and Willow Pass Road would be included east of Mt. Diablo Creek. Alternative 2 is included for the purposes of the NEPA analysis and does not imply a change to the City of Concord's adopted Area Plan and 2030 General Plan, which is the result of a public planning process. The DoN has no role in the community planning process.

The No Action Alternative is required by NEPA and evaluates the impacts at NWS Concord in the event that the surplus property is not disposed. Under this alternative the property would be retained by the DoN in caretaker status. No reuse or redevelopment would occur under this alternative.

The EIS will address potential direct, indirect, short-term, long-term, and cumulative impacts on the human and natural environments, including but not limited to potential impacts on topography, geology and soils; water resources; biological resources; air quality; greenhouse gases and climate change; noise; infrastructure and utilities; transportation, traffic, and circulation; cultural resources; land use; socioeconomics and environmental justice; hazards and hazardous substances; and public services. Known areas of concern associated with the proposed action include impacts on biological and cultural resources, impacts on local traffic patterns resulting from reuse scenarios, and the cleanup of installation remediation sites.

The DoN is initiating a 30-day scoping period to receive comments on the scope of the EIS, including the range of actions, alternatives, and environmental concerns that should be addressed. Public scoping meetings will be held in the City of Concord, California, to provide information and receive written comments on the scope of the EIS. Federal, state, and local agencies and interested individuals are encouraged to comment on the scope of the EIS or attend the public scoping meetings. To be most helpful, scoping comments should clearly describe specific issues or topics that the commenter believes the EIS should address.

Comments can be made in the following ways: (1) Written comments at the scheduled public scoping meetings; or (2) written comments mailed to the DoN BRAC PMO address in this notice; or (3) written comments faxed to the DoN BRAC PMO fax number in this notice; or (4) comments submitted via email using the DoN BRAC PMO email address in this notice.

Written comments must be postmarked, faxed, or emailed by midnight Friday, April 19, 2013, and sent to: Director, NAVFAC BRAC PMO West, Attn: Mr. Ronald Bochenek, 1455 Frazee Road, Suite 900, San Diego, California 92108-4310, telephone 619-532-0906, fax 619-532-9858, email: ronald.bochenek.ctr@navy.mil.

Requests for special assistance, sign language interpretation for the hearing impaired, language interpreters, or other auxiliary aids for the scheduled public scoping meetings must be sent by mail or email by Friday, March 29, 2013 to the address provided in this notice.

C.K. Chiappetta,
Lieutenant Commander, Office of the Judge Advocate General, U.S. Navy, Federal Register Liaison Officer.

[FR Doc. 2013-05925 Filed 3-13-13; 8:45 am]

BILLING CODE 3810-FF-P